DEPARTMENT OF ENERGY

Federal Energy Regulatory Commission

[Docket No. CP08-436-000]

Midwestern Gas Transmission Company; Notice of Request Under Blanket Authorization

July 17, 2008.

Take notice that on July 8, 2008, Midwestern Gas Transmission Company (Midwestern), 100 West 5th Street, ONEOK Plaza, Tulsa, Oklahoma 74103, filed in Docket No. CP08-436-000, an application pursuant to sections 157.205, 157.208, and 157.210 of the Commission's Regulations under the Natural Gas Act (NGA) as amended, to modify facilities at the Sullivan compressor station located in Sullivan County, Indiana, and the Paris compressor station located in Edgar County, Illinois, under Midwestern's blanket certificate issued in Docket No. CP82-414-000,¹ all as more fully set forth in the application which is on file with the Commission and open to the public for inspection.

¹ 20 FERC ¶ 62,411 (1982).

Midwestern states that it proposes to construct, own, and operate two additional bi-directional suction and two additional discharge pipeline segments, one of each at both the Sullivan (compressor station 2113) and Paris (compressor station 2115) compressor stations. Midwestern also states that both compressor stations are currently designed only to allow natural gas volumes to flow northward on Midwestern's line 2100-1. Midwestern further states that the project would provide incremental capability to allow up to 150,000 Dth/day of natural gas to flow southbound and that the proposed facilities would cost approximately $3,840,492 to construct.

Any questions concerning this application may be directed to Joseph W. Miller, Midwestern Gas Transmission Company, 100 West 5th Street, ONEOK Plaza, Tulsa, Oklahoma 74103, or via telephone at (918) 588-7057 or via facsimile at (918) 588-7890.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-17159 Filed 7-25-08; 8:45 am]

BILLING CODE 6717-01-P